DEPARTMENT OF AGRICULTURE

Forest Service

Lake Tahoe Basin Federal Advisory Committee (LTFAC)

AGENCY: Forest Service, USDA.

ACTION: Notice of meeting cancellation.

SUMMARY: The Lake Tahoe Federal Advisory Committee meeting that was to be held on October 21 or 24, 2011 at the Lake Tahoe Basin Management Unit, 35 College Drive, South Lake Tahoe, CA 96150 is cancelled. This Committee, established by the Secretary of Agriculture on December 15, 1998 (64 FR 2876), is chartered to provide advice to the Secretary on implementing the terms of the Federal Interagency Partnership on the Lake Tahoe Region and other matters raised by the Secretary.

FOR FURTHER INFORMATION CONTACT: Arla Hains, Lake Tahoe Basin Management Unit, Forest Service, 35 College Drive, South Lake Tahoe, CA 96150, (530) 543-2773 or check for the next meeting date at http://www.fs.fed.us/r5/ltbmu/local/ltfac.

SUPPLEMENTARY INFORMATION: All Lake Tahoe Basin Federal Advisory Committee meetings are open to the public. Issues may be brought to the attention of the Committee during the open public comment period at the meeting or by filing written statements with the secretary for the Committee. Please refer any written comments to the Lake Tahoe Basin Management Unit at the contact address stated above.

Dated: September 30, 2011.
Jeff Marsolais,
Deputy Forest Supervisor.

[FR Doc. 2011-25852 Filed 10-5-11; 8:45 am]

BILLING CODE 3410-11-P